DEPARTMENT OF TRANSPORTATION

Federal Highway Administration

Federal Transit Administration

23 CFR Part 450

[FHWA Docket No. FHWA-99-5933]

FHWA RIN 2125-AE95; FTA RIN 2132-AA75

Statewide Transportation Planning; Metropolitan Transportation Planning

AGENCY: Federal Highway Administration (FHWA), Federal Transit Administration (FTA), DOT.

ACTION: Notice; extension of comment period.

SUMMARY: The FHWA and FTA propose to extend the comment period for a supplemental notice of proposed rulemaking, which was published June 19, 2002, at 67 FR 41648. The original comment period is set to close on August 19, 2002. The proposed extension stems from concern expressed jointly by the American Association of Highway and Transportation Officials (AASHTO), the National Association of Counties (NACO), and the National Association of Development Organizations (NADO) that the August 19 closing date does not provide sufficient time for response to the supplemental notice of proposed rulemaking. The FHWA and FTA recognize that others interested in commenting may have similar time constraints and agree that the comment period should be extended. Therefore, the closing date for comments is changed to September 19, 2002, which will provide the AASHTO, NACO, NADO and others interested in commenting additional time to evaluate the supplemental notice of proposed rulemaking and to submit responses.

DATES: Submit comments on or before September 19, 2002.

ADDRESSES: Mail or hand deliver comments to the U.S. Department of Transportation, Dockets Management Facility, Room PL-401, 400 Seventh Street, SW., Washington, DC 20590, or submit electronically at http://dmses.dot.gov/submit. All comments should include the docket number that appears in the heading of this document. All comments received will be available for examination and copying at the above address from 9 a.m. to 5 p.m., e.t., Monday through Friday, except Federal holidays. Those desiring notification of receipt of comments must include a self-addressed, stamped postcard or you may print the acknowledgment page that appears after submitting comments electronically.

FOR FURTHER INFORMATION CONTACT: For the FHWA: Mr. Dee Spann, Statewide Planning Team (HEPS), (202) 366-4086 or Mr. Reid Alsop, Office of the Chief Counsel (HCC-31), (202) 366-1371. For the FTA: Mr. Paul Verchinski, Statewide Planning Divison (TPL-11) or Mr. Scott Biehl, Office of the Chief Counsel (TCC-30), (202) 366-0952. Both agencies are located at 400 Seventh Street, SW., Washington, DC 20590-0001. Office hours for the FHWA are from 7:45 a.m. to 4:15 p.m., e.t., and for the FTA are from 8:30 a.m. to 5 p.m., e.t., Monday through Friday, except Federal holidays.

SUPPLEMENTARY INFORMATION:

Electronic Access

Internet users may access all comments received by the U.S. DOT Docket Facility, Room PL-401, by using the universal resource locator (URL) http://dms.dot.gov. It is available 24 hours each day, 365 days each year. Please follow the instructions online for more information and help.

An electronic copy of this document may be downloaded by using a computer, modem, and suitable communications software from the Government Printing Office's Electronic Bulletin Board Service at (202) 512-1661. Internet users may reach the Office of the Federal Register's home page at: http:// www.nara.gov/fedreg and the Government Printing Office's Web site at http://www.access.gpo.gov.

Background

Section 1025 of the Intermodal Surface Transportation Efficiency Act of 1991 (ISTEA), Public Law 102-240, 105 Stat. 1914, (December 18, 1991), amended title 23, United States Code (U.S.C.), section 135 and established a requirement for Statewide Transportation Planning and stated, “[t]he transportation needs of non-metropolitan areas should be considered through a process that includes consultation with local elected officials with jurisdiction over transportation.” The ISTEA further stated “[p]rojects undertaken in areas of less than 50,000 population (excluding projects undertaken on the National Highway System and pursuant to the bridge and Interstate maintenance programs) shall be selected by the State in cooperation with the affected local officials. Projects undertaken in such areas on the National Highway System or pursuant to the bridge and Interstate maintenance programs shall be selected by the State in consultation with the affected local officials.”

Section 1204 of the Transportation Equity Act for the 21st Century (TEA-21), Public Law 105-178, 112 Stat. 107 (June 9, 1998), further amended 23 U.S.C. 135, while preserving the statewide planning requirement for a continuing, comprehensive, and cooperative planning process. Although the TEA-21 did not significantly alter the current decisionmaking relationship among governmental units, it does demonstrate the Congress' continued emphasis on States consultation with non-metropolitan local officials in transportation planning and programming. Consultation with non-metropolitan local officials in transportation planning and programming is the specific subject of the SNPRM, which the FHWA and the FTA published June 19, 2002, at 67 FR 41648.

The SNPRM provided an alternative proposal regarding consultation with non-metropolitan local officials which is different from that contained in the FHWA and the FTA notice of proposed rulemaking (NPRM) published on May 25, 2000 (65 FR 33922), which detailed proposed revisions to the existing planning regulations issued on October 28, 1993, at 58 FR 58040. Comments were solicited until August 23, 2000 (later extended to September 23, 2000, by a July 7, 2000, Federal Register notice at 65 FR 41891). The docket is still open.

The House report (H.R. Rep. No. 107-108, at 80 (2001)) that accompanied the U.S. DOT Appropriations Act for fiscal year (FY) 2002 (Pub. L. 107-87), and the conference report (H.R. Rep. No. 107-350 (2001)) for the Department of Defense FY 02 Appropriations Act (Pub. L. 107-117), contained several transportation provisions. They include language directing the U.S. DOT to promulgate a final rule, no later than February 1, 2002, to amend the FHWA and FTA planning regulations to ensure transportation officials from rural areas are consulted in long range transportation planning and programming.

The original comment period for the SNPRM is set to close on August 19, 2002. The AASHTO, NACO, and NADO are working together to develop joint comments on the SNPRM, and they jointly expressed concern that this closing date does not provide sufficient time to review the proposed changes, consolidate comments, and submit them. To allow time for these organizations and others to prepare and submit appropriate comments, the closing date for comments is changed from August 19, 2002, to September 19, 2002.

Authority: 23 U.S.C. 134, 135, and 315; and 49 U.S.C. 5303-5306.

Issued on: August 8, 2002.
Mary E. Peters,
Federal Highway Administrator.
Jennifer L. Dorn,
Federal Transit Administrator.

[FR Doc. 02-20626 Filed 8-14-02; 8:45 am]

BILLING CODE 4910-22-P